DEPARTMENT OF LABOR

Office of the Secretary

Submission for OMB Review; Comment Request

May 11, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail King-Darrin@dol.gov.

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Prohibited Transaction Class Exemption 81-6.

OMB Number: 1210-0065.

Affected Public: Business or other for-profit; Not-for-profit institutions; and Individuals or households.

Frequency: On occasion.

Number of Respondents: 42,000.

Number of Annual Responses: 126,000.

Estimated Time Per Response: 5 minutes.

Total Burden Hours: 10,500.

Total Annualized Capital/Startup Costs: $0.

Total Annual Costs (operating/maintaining systems or purchasing services): $48,000.

Description: Prohibited Transaction Class Exemption 81-6 exempts from the prohibited transaction restrictions of ERISA the lending of securities by plans to banks, registered broker-dealers, and dealers in Government Securities who are parties in interest, except if the borrower or an affiliate has discretionary authority or renders investment advice with respect to the involved plan assets.

The class exemption contains two information collection requirements. First, the borrower must furnish the lending plan fiduciary with the most recent available audited statement of the borrower's financial condition and make a representation at the time of the loan is negotiated that there has been no material adverse change in its financial condition since the audited statement. Second, the loan of the securities is made pursuant to a written agreement, is intended to ensure that the terms of the transaction are made public and are at least as favorable to the plan as an arms-length transaction with an unrelated party. Individual agreements are not required for each transaction; the agreement may be made in the form of a master agreement covering a series of transactions.

Without the audited statement of the borrower's financial condition and a written agreement, the Department, which may only grant an exemption if it can find that participants and beneficiaries are protected, would be unable to effectively enforce the terms of the class exemption and ensure user compliance.

Type of Review: Extension of a currently approved collection.

Agency: Pension and Welfare Benefits Administration (PWBA).

Title: Regulation relating to Loans to Plan Participants and Beneficiaries who are Parties in Interest with Respect to the Plan.

OMB Number: 1210-0076.

Affected Public: Business or other for-profit; Not-for-profit institutions; and Individuals or households.

Frequency: On occasion.

Number of Respondents: 1,310.

Number of Annual Responses: 1,310.

Estimated Time Per Response: 0.

Total Burden Hours: 0.

Total Annualized Capital/Startup Costs: 0.

Total Annual Costs (operating/maintaining systems or purchasing services): $283,000.

Description: In this regulation (29 CFR 2550.408b-1) the Department sets out the terms of ERISA section 408(b)(1) under which loans from a plan to participants and beneficiaries who are parties in interest are permitted. ERISA section 408(b)(1)(C) requires that loans from a plan to participants and beneficiaries be made in accordance with “specific provisions” set forth in the plan. This regulation proscribes eight specific provisions that must be included in the plan documents. Because 402(a)(1) of ERISA requires that every employee benefit be in writing, these eight specific provisions must also be in writing. The plan document is the legal statement of the plan provisions and governs all plan operations.

The disclosure requirement incorporated within this regulation is intended to ensure that loan programs are operated impartially.

Type of Review: Extension of a currently approved collection.

Agency: Pension and Welfare Benefits Administration (PWBA).

Title: Prohibited Transaction Class Exemption 85-68 to Permit Employee Benefit Plans to Invest in Customer Notes of Employers.

OMB Number: 1210-0094.

Affected Public: Business or other for-profit; Not-for-profit institutions; and Individuals or households.

Frequency: On occasion.

Number of Respondents: 120.

Number of Annual Responses: 960.

Estimated Time Per Response: 1 hour.

Total Burden Hours: 960.

Total Annualized Capital/Startup Costs: $0.

Total Annual Costs (operating/maintaining systems or purchasing services): $0.

Description: Prohibited Transaction Class Exemption 85-68 exempts from the prohibited transaction restrictions of ERISA the investment by employee benefits plan in customer notes accepted by an employer of employees covered by the plan in the ordinary course of the employer's primary business activity.

The class exemption contains a recordkeeping requirement. Plans are required to maintain for six years from the date of the transaction the records necessary to enable interested parties, including the Department, to determine whether the conditions of the exemption are being met.

Without the records, the Department, which may only grant an exemption if it can find that participants and beneficiaries are protected, would be unable to effectively enforce the terms of the class exemption and ensure user compliance.

Ira L. Mills,
Departmental Clearance Officer.

[FR Doc. 01-12843 Filed 5-21-01; 8:45 am]

BILLING CODE 4510-29-M